DEPARTMENT OF COMMERCE

National Oceanic and Atmospheric Administration

[I.D. 100505B]

Fisheries of the South Atlantic; Meeting to refine South Atlantic Fishery Management Council's Internet Mapping System.

AGENCY: National Marine Fisheries Service (NMFS), National Oceanic and Atmospheric Administration (NOAA), Commerce.

ACTION: Notice of meeting to refine Internet Mapping System

SUMMARY: The South Atlantic Fishery Management Council (Council) will hold a meeting to refine its Internet Mapping System in St. Petersburg, FL. See SUPPLEMENTARY INFORMATION.

DATES: The workshop will take place October 25, 2005. See SUPPLEMENTARY INFORMATION.

ADDRESSES: The meeting will be held at the Florida Fish and Wildlife Research Institute, 100 Eighth Avenue, S.E., St. Petersburg, FL 33701; phone: (727) 896-8626; fax: (727)893-2947.

FOR FURTHER INFORMATION CONTACT: Kim Iverson, Public Information Officer, South Atlantic Fishery Management Council, One Southpark Circle, Suite 306, Charleston, SC 29407-4699; phone: (843) 571-4366 or toll free (866)SAFMC-10; fax: (843) 769-4520; email: kim.iverson@safmc.net.

SUPPLEMENTARY INFORMATION: The meeting will take place from 8:30 a.m. - 5 p.m. on October 25, 2005. Invited participants representing scientific and mapping expertise, will meet to continue to refine the Council's Internet Mapping System (IMS) with additional datasets and improved functionality.

The meeting is a follow up to one held in 2004. The Council's IMS, as designed through a contract with the Florida's Fish and Wildlife Research Institute, incorporates datasets, metadata, and images provided through cooperative efforts of several agencies. Continued collection and refinement of the IMS will assist the Council in the development of its Fishery Ecosystem Plan. Information provided on the site is accessible to the public at http://map.mapwise.com/safmc.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Note: The times and sequence specified in this agenda are subject to change.

Special Accommodations

These meetings are physically accessible to people with disabilities. Requests for auxiliary aids should be directed to the council office (see ADDRESSES) 3 days prior to the meetings.

Dated: October 6, 2005.
Emily Menashes,
Acting Director, Office of Sustainable Fisheries, National Marine Fisheries Service.

[FR Doc. E5-5575 Filed 10-11-05; 8:45 am]

BILLING CODE 3510-22-S